DEPARTMENT OF COMMERCE

Bureau of the Census

National Sunshine Week Public Event

AGENCY: Bureau of the Census, Department of Commerce.

ACTION: Notice of public event.

SUMMARY: The Bureau of the Census (Census Bureau) is announcing the following event, “As a Matter of Open Government,” in recognition of National Sunshine Week. The Census Bureau will hold public speaker sessions to educate and engage in open dialogue about our transparency efforts.

DATES: The public speaker sessions will be held on Wednesday, March 14 and Thursday, March 15, 2018 from 9:00 a.m. to 12:00 p.m. The Census Bureau also will co-host a kick-off event with the Department of Commerce's (DOC) Office of Privacy and Open Government on Tuesday, March 13, 2018 from 9:00 a.m. to 12:00 p.m. at the Department of Commerce Research Library, 1401 Constitution Avenue NW, Washington, DC 20230. Registration is free, but advanced registration is required for both events/sessions. (See directions below under Supplementary Information regarding how to register.)

ADDRESSES: The public speaker sessions will be held in the U.S. Census Bureau Training Room, T-5, 4600 Silver Hill Road, Suitland, MD 20746.

FOR FURTHER INFORMATION CONTACT: Jennifer Goode or Mary Kendall-Washington at the Policy Coordination Office, Open Government Program: 301-763-6440 or census.eopengov@census.gov. TTY callers, please call the Federal Relay Service (FRS) at 1-800-877-8339 and give them the above-listed number you would like to call. This service is free and confidential.

SUPPLEMENTARY INFORMATION: Individuals may attend the kick-off event at the DOC Research Library as seating capacity permits. The kick-off event will also be available for public observation via call-in. Individuals seeking to attend the kick-off must register at https://www.eventbrite.com/e/sunshine-week-kick-off-event-as-a-matter-of-open-government-tickets-41456931799?aff=eac by 12:00 p.m. (EDT) on March 12. Individuals who wish to attend the speaker sessions at the Census Bureau must register at https://www.eventbrite.com/e/sunshine-week-speaker-sessions-as-a-matter-of-open-government-tickets-41498530221?aff=erelexpmlt by 12:00 p.m. (EDT) on March 13. Agendas and call-in instructions will be provided upon registration.

The event will be physically accessible to people with disabilities. Individuals requiring accommodation, such as sign language interpretation or other auxiliary aids, should call Mary-Kendall Washington at 301-763-6440 to request accommodations at least five business days in advance.

All registrants will be placed on a visitor list. All visitors for the event must provide a government-issued photo identification in order to enter the building. For logistical questions, call Angineh Torosiyan Hayter at 301-763-6440. Media interested in attending should call the Census Bureau's Public Information Office at 301-763-3030.

Dated: February 7, 2018.
Ron S. Jarmin,
Associate Director for Economic Programs, performing the non-exclusive functions and duties of the Director, Bureau of the Census.

[FR Doc. 2018-02879 Filed 2-12-18; 8:45 am]

BILLING CODE 3510-07-P